DEPARTMENT OF AGRICULTURE

Forest Service

Sawtooth National Forest, Idaho; Fisher Creek and Smiley Creek Allotment Management Plans Analysis

AGENCY: Forest Service, USDA.

ACTION: Notice of intent to prepare an environmental impact statement.

SUMMARY: The USDA Forest Service will prepare an environmental impact statement (EIS) for the Fisher Creek and Smiley Creek sheep & goat allotments. The proposed action in the EIS is to authorize grazing through revised allotment management plans (AMPs) for the Fisher Creek Allotment and the Smile Creek Allotment. The EIS will analyze the effects of the proposed action and alternatives. The agency gives notice of the full National Environmental Policy Act (NEPA) analysis and decision malign process on the proposal so interested and affected members of the public may participate and contribute to the final decision. The Sawtooth National Forest invites written comments and suggestions on the scope of the analysis and the issues to address.

DATES: Written comments concerning the proposed project should be postmarked within 30 days from the day after publication of this announcement in the Federal Register. Comments received in response to this solicitation, including the names and addresses of those who comment, will be considered part of the public record on this proposal and will be available to public inspection. The draft environmental impact statement is expected to be available for public review and comment in November, 2003 and the final environmental impact statement is expected to be available May 2004.

ADDRESSES: Send written comments to Lisa Stoeffler, Deputy Area Ranger at Stanley Ranger Station; HC 64, Box 9900; Stanley, Idaho, 83278. Faxes should be sent to 208-774-3003 and e-mail to lstoeffler@fs.fed.us/.

FOR FURTHER INFORMATION CONTACT: Questions about the proposed project and scope of analysis should be directed to Ed Cannady, Information Officer at the Sawtooth National Recreation Area; HC 64, Box 8291; Ketchum, Idaho, 83341; or phone at (208) 727-5020.

SUPPLEMENTARY INFORMATION: The analysis area is located in the White Cloud and Sawtooth Mountain ranges in Custer and Blaine Counties, south of Stanley, ID and is administered by the Sawtooth National Recreation Area (SNRA) of the Sawtooth National Forest. The two allotments are located in portions of Townships 6-9 North, and Ranges 13-15 East, Boise Meridian. The proposed action will be in compliance with the Sawtooth National Forest Land and Resource Management Plan (FLRMP), as amended, which provides overall guidance for management of this area and Public Law 92-400, the Organic Act for the Sawtooth National Recreation Area.

Purpose and Need for Action

The purpose of the proposed action is to update the allotment management plans to allow for permitted livestock grazing that meets or moves towards desired resource conditions. The need for the proposed action is to comply with desired resource conditions as described in FLRMP Standards.

Proposed Action

The proposed action of this EIS is to ensure that management of the allotments is in compliance with the FLRMP and PL 92-400 by authorizing permitted grazing that meets or moves toward desired resource conditions. AMPs would be revised to reflect these changes. An adaptive management strategy, which would allow for flexibility during the implementation of the grazing strategy, would allow permittees to respond to changing conditions and unexpected results. Permitted numbers and seasons would be modified if necessary to meet standards.

Possible Alternatives

Possible alternatives include: Alt. 1—continued grazing as currently permitted (No change); Alt. 2—revised stocking rate and/or permitted area; Alt. 3—No grazing (grazing phased out).

Responsible Official

The responsible official is the Area Ranger of the Sawtooth National Recreation Area, Sawtooth National Forest.

Nature of the Decision To Be Made

The responsible official will decide if domestic livestock grazing can occur within the analysis area, and if so, where within the analysis area and under what conditions (timing and duration). In accordance with 36 CFR 292.17(b)(10), it defines substantial impairment as “that level of disturbance of the values of the SNRA which is incompatible with the standards of the General Management Plan.'' Therefore the Area Ranger must also decide if primary SNRA values will be substantially impaired by livestock grazing on the allotments.

Scoping Process

Public notices will be placed in local newspapers.

Comment Requested

This notice of intent initiates the scoping process which guides the development of the environmental impact statement for the Fisher Creek and Smiley Creek allotment management plans.

Early Notice of Importance of Public Participation in Subsequent Environmental Review

A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the court. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period for the draft environmental impact statement so that substantive comments and objections are made available to the Forest Service at a time when it can meaningfully consider them and respond to them in the final environmental impact statement.

To assist the Forest in identifying and considering issues raised by the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: April 29, 2003.
Ruth Monahan,
Sawtooth Forest Supervisor.

[FR Doc. 03-11098 Filed 5-5-03; 8:45 am]

BILLING CODE 3410-11-M